DEPARTMENT OF LABOR

Employment and Training Administration

[TA-W-83,085; TA-W-83,085A]

Sgk Ventures, Formerly Known As Keywell Llc, Frewsburg, New York; Keywell Metals Llc, Formerly Known As Keywell Llc, Falconer, New York; Amended Certification Regarding Eligibility To Apply for Worker Adjustment Assistance

In accordance with Section 223 of the Trade Act of 1974, as amended (“Act”), 19 U.S.C. 2273, the Department of Labor issued a Certification of Eligibility to Apply for Worker Adjustment Assistance on November 6, 2013, applicable to workers of Keywell LLC, Frewsburg, New York, and Keywell, Falconer, New York. The Department's notice of determination was published in the Federal Register on December 10, 2013 (78 FR 74163).

At the request of the New York State Department of Labor, the Department reviewed the certification for workers of the subject firm. The workers were engaged in the production of scrap stainless steel, titanium and high temperature alloys.

New information shows that part of Keywell LLC was purchased in bankruptcy and each portion renamed: The Frewsburg facility to SGK Ventures and the Falconer facility to Keywell Metals LLC on January 1, 2014. The intent of the Department's certification is to include all workers of the subject firm who were adversely affected by imports of articles directly competitive to scrap stainless steel, titanium and high temperature alloys.

The amended notice applicable to TA-W-83,085 and TA-W-83,085A is hereby issued as follows:

All workers of SGK Ventures, formerly known as Keywell LLC, Frewsburg, New York (TA-W-83,085) and all workers of Keywell Metals LLC, formerly known as Keywell LLC, Falconer, New York (TA-W-83,085A), who became totally or partially separated on or after September 10, 2012 through November 6, 2015, and all workers in the group threatened with total or partial separation from employment on date of certification through November 6, 2015, are eligible to apply for adjustment assistance under Chapter 2 of Title II of the Trade Act of 1974, as amended.

Signed at Washington, DC, this 2nd day of February, 2015.
Michael W. Jaffe,
Certifying Officer, Office of Trade Adjustment Assistance.

[FR Doc. 2015-03277 Filed 2-17-15; 8:45 am]

BILLING CODE 4510-XX-P